DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form, and OMB Number: Involuntary Allotment Application; DD For 2653; OMB Number 0704-0367.

Type of Request: Revision.

Number of Respondents: 9,314.

Responses per Respondent: 1.

Annual Responses: 9,314.

Average Burden per Response: 30 minutes.

Annual Burden Hours: 4,657.

Needs and Uses: This information is collected by the Department of Defense to initiate an involuntary allotment from the pay of a member of the Uniformed Services for indebtedness owed a third party as determined by the final judgment of a court. This requirement was created by “The Hatch Act Reform Amendments of 1993,” Public Law 103-94. The form requires the creditor to provide identifying information on the member of the Uniformed Services, certify a judgment was obtained, and that the member's rights under the Soldiers' and Sailors' Civil Relief Act were protected.

Affected Public: Individuals or households; business or other for-profit.

Frequency: On occasion.

Respondent's Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: March 28, 2001.
Patricia L. Toppings,
Alternate OSD Federal Register Liaison Officer, Department of Defense.

[FR Doc. 01-8068 Filed 4-2-01; 8:45 am]

BILLING CODE 5001-10-M